ENVIRONMENTAL PROTECTION AGENCY

40 CFR Part 63

[FRL-7222-2]

RIN 2060-AG91

National Emission Standards for Hazardous Air Pollutants for Source Categories: Generic Maximum Achievable Control Technology Standards

AGENCY: Environmental Protection Agency (EPA).

ACTION: Proposed rule; amendments.

SUMMARY: We are proposing to amend the National Emission Standards for Hazardous Air Pollutants for Source Categories: Generic Maximum Achievable Control Technology Standards to revise the definition of the term “process vent” and to correct some editorial, cross-reference, and wording errors. In the Rules and Regulations section of this Federal Register, we are taking direct final action on the proposed amendments because we view these actions as noncontroversial, and we anticipate no adverse comments. We have explained our reasons for these actions in the preamble to the direct final rule. If we receive no significant adverse comments, we will take no further action on this proposed rule. If we receive significant adverse comments, we will withdraw only those provisions on which we received significant adverse comments. We will publish a timely withdrawal in the Federal Register indicating which provisions will become effective and which provisions are being withdrawn. If part or all of the direct final rule in the Rules and Regulations section of this Federal Register is withdrawn, all public comments pertaining to those provisions will be addressed in a subsequent final rule based on this proposed rule. We will not institute a second comment period on this action. If you are interested in commenting, you must do so at this time.

DATES: Comments. We must receive written comments by July 8, 2002, unless a hearing is requested by June 17, 2002. If a hearing is requested, we must receive written comments by July 22, 2002.

Public Hearing. If anyone contacts us requesting to speak at a public hearing by June 17, 2002, a public hearing will be held on June 21, 2002.

ADDRESSES: Comments. By U.S. Postal Service, submit written comments (in duplicate if possible) to: Air and Radiation Docket and Information Center (6102), Attention Docket Number A-97-17, U.S. EPA, 1200 Pennsylvania Avenue, NW, Washington, DC 20460. In person or by courier, submit comments (in duplicate if possible) to: Air and Radiation Docket and Information Center (6102) Attention Docket Number A-97-17, Room M-1500, U.S. EPA, 401 M Street, SW., Washington, DC 20460. We request that a separate copy of each public comment be sent to the contact person listed below (see FOR FURTHER INFORMATION CONTACT).

Public Hearing. If a public hearing is held, it will be held at the new EPA facility complex in Research Triangle Park, North Carolina at 10:30 a.m.

Docket. Docket No. A-97-17 contains supporting information used in developing the Generic MACT standards. The docket is located at the U.S. EPA, 401 M Street, SW., Washington, DC 20460 in Room M-1500, Waterside Mall (ground floor), and may be inspected from 8 a.m. to 5:30 p.m., Monday through Friday, excluding legal holidays.

FOR FURTHER INFORMATION CONTACT: Mr. David W. Markwordt, Policy, Planning, and Standards Group (C439-04), Emission Standards Division, U.S. EPA, Research Triangle Park, NC 27711, telephone number: (919) 541-0837, electronic mail (e-mail): markwordt.david@epa.gov.

SUPPLEMENTARY INFORMATION: Comments. Comments and data may be submitted by electronic mail (e-mail) to: a-and-r-docket@epa.gov. Electronic comments must be submitted as an ASCII file to avoid the use of special characters and encryption problems and will also be accepted on disks in WordPerfect format. All comments and data submitted in electronic form must note the docket number A-97-17. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: OAQPS Document Control Officer (C404-02), Attn: Mr. David Markwordt, U.S. EPA, Research Triangle Park, NC 27711. The EPA will disclose information identified as CBI only to the extent allowed by the procedures set forth in 40 CFR part 2. If no claim of confidentiality accompanies a submission when it is received by EPA, the information may be made available to the public without further notice to the commenter.

Public Hearing. Persons interested in presenting oral testimony or inquiring as to whether a hearing is to be held should contact Ms. Dorothy Apple, U.S. EPA (C439-04), Research Triangle Park, NC 27711, telephone (919) 541-4487, at least 2 days in advance of the public hearing. Persons interested in attending the public hearing must also call Ms. Dorothy Apple to verify the time, date, and location of the hearing. The public hearing will provide interested parties the opportunity to present data, views, or arguments concerning this proposed amendment.

Docket. The docket is an organized and complete file of all the information we considered in developing this rulemaking. The docket is a dynamic file because material is added throughout the rulemaking process. The docketing system is intended to help you to readily identify and locate documents so that you can effectively participate in the rulemaking process. Along with the proposed and promulgated rules and their preambles, the contents of the docket will serve as the record in the case of judicial review. (See section 307(d)(7)(A) of the Clean Air Act.) You may obtain the regulatory text and other materials related to this rulemaking which are available for review in the docket or copies may be mailed on request from the Air Docket by calling (202) 260-7548. We may charge a reasonable fee for copying docket materials. You may also obtain docket indexes by facsimile, as described on the Office of Air and Radiation, Docket and Information Center Website at http://www.epa.gov/airprogm/oar/docket/faxlist.html.

Worldwide Web (WWW). In addition to being available in the docket, an electronic copy of this proposed rule will also be available through the WWW. Following signature, a copy of this action will be posted on the EPA's Technology Transfer Network (TTN) policy and guidance page for newly proposed or promulgated rules at http://www.epa.gov/ttn/oarpg. The TTN at EPA's website provides information and technology exchange in various areas of air pollution control. If more information regarding the TTN is needed, call the TTN HELP line at (919) 541-5384.

Regulated Entities. Categories and entities potentially affected by this action include:

Category | NAICS * | Regulated entities
Industry | 325199 | Producers of homopolymers and/or copolymers of alternating oxymethylene units. Producers of either acrylic fiber or modacrylic fiber synthetics composed of acrylonitrile (AN) units. Producers of polycarbonate.
Industry | 325188 | Producers of, and recoverers of HF by reacting calcium fluoride with sulfuric acid. For the purpose of implementing the rule, HF production is not a process that produces gaseous HF for direct reaction with hydrated aluminum to form aluminum fluoride (i.e., the HF is not recovered as an intermediate or final product prior to reacting with the hydrated aluminum).
* North American Information Classification System

This table is not intended to be exhaustive, but rather provides a guide for readers regarding entities likely to be regulated by this action. To determine whether your facility is regulated by this action, you should carefully examine the applicability criteria in 40 CFR § 63.1103 of the promulgated rule. If you have any questions regarding the applicability of these amendments to a particular entity, consult the appropriate EPA Regional Office representative.

I. What Action Is EPA Proposing?

This proposal would revise the definition of “process vent” and make changes to recordkeeping requirements and technical corrections in 40 CFR part 63, subpart YY. For further information, please see the information provided in the direct final rulemaking notice located in the Rules and Regulations section of today's Federal Register.

II. What Are the Administrative Requirements for This Action?

Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the Agency certifies that the rule will not have a significant economic impact on a substantial number of small entities. Small entities include small businesses, small organizations, and small governmental jurisdictions.

For purposes of assessing the impacts of today's proposed rule amendments on small entities, a small entity is defined as: (1) A small business whose parent company has fewer than 1000 employees; (2) a small governmental jurisdiction that is a government of a city, county, town, school district or special district with a population of less than 50,000; or (3) a small organization that is any not-for-profit enterprise which is independently owned and operated and is not dominant in its field.

We believe there will be little or no impact on any small entities because the proposed rule amendments do not impose additional requirements but instead either eliminate cross-referencing, editorial, and wording errors or clarify the applicability of existing requirements of the MACT standards established for acetal resins production, acrylic and modacrylic fiber production, hydrogen fluoride production, and polycarbonate production. The Administrator certifies that this action will not have a significant economic impact on a substantial number of small entities.

For information regarding other administrative requirements for this action, please see the direct final rule action that is located in the Rules and Regulations section of this Federal Register publication.

List of Subjects in 40 CFR Part 63

Environmental protection, Air pollution control, Hazardous air pollutants, Hazardous substances, Reporting and recordkeeping requirements.

Dated: May 23, 2002.
Christine Todd Whitman,
Administrator.

[FR Doc. 02-13801 Filed 6-6-02; 8:45 am]

BILLING CODE 6560-50-P